DEPARTMENT OF THE INTERIOR

Fish and Wildlife Service

[FWS-R1-ES-2013-N057; FXES11120100000-134-FF01E00000]

Environmental Impact Statement; Proposed South Puget Sound Prairie Habitat Conservation Plan, Thurston County, WA

AGENCY: Fish and Wildlife Service (Service), Interior.

ACTION: Notice of intent; announcement of meeting; request for comments.

SUMMARY: We, the U.S. Fish and Wildlife Service (Service), advise interested parties of our intent to conduct public scoping under the National Environmental Policy Act (NEPA) to gather information to prepare a draft Environmental Impact Statement (EIS) related to a permit application from Thurston County, Washington, for the incidental take of listed species. The permit application would be associated the South Puget Sound Prairie Habitat Conservation Plan (Prairie HCP), Thurston County, WA.

DATES: A public meeting will be held on April 6, 2013, from 9:30 a.m. to 3 p.m. at the Exposition Hall, Thurston County Fairgrounds, 3054 Carpenter Road, Lacey, WA 98503. To ensure consideration of written comments, please send your written comments on or before May 20, 2013.

ADDRESSES: Comments concerning the development of Thurston County's Prairie HCP and the preparation of the associated EIS should be identified as such and may be submitted by one of the following methods:

• U.S. mail: Tim Romanski, U.S. Fish and Wildlife Service, Washington Fish and Wildlife Office, 510 Desmond Drive SE., Suite 102, Lacey, WA 98503-1263.

• Email: WFWOComments@fws.gov. Include “Thurston County Prairie HCP—EIS” in the subject line of the message.

• Facsimile: (360) 753-9518.

• In-Person: Written comments will be accepted at the public meeting on April 6, 2013, or can be dropped off during regular business hours at the above address.

FOR FURTHER INFORMATION CONTACT: Tim Romanski, U.S. Fish and Wildlife Service at address under ADDRESSES, above; by email at Tim_Romanski@fws.gov; or by telephone at (360) 753-5823.

SUPPLEMENTARY INFORMATION:

Reasonable Accommodation

Persons needing reasonable accommodations to attend and participate in the public meeting should contact Tim Romanski (see FOR FURTHER INFORMATION CONTACT). To allow sufficient time to process requests, please call no later than March 31, 2013. Information regarding the applicant's proposed action is available in alternative formats upon request.

Background

Section 9 of the Endangered Species Act (Act) (16 U.S.C. 1531 et seq.) and our implementing regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532). The term “harass” is defined in the regulations as “an intentional or negligent act or omission which creates the likelihood of injury to wildlife by annoying it to such an extent as to significantly disrupt normal behavioral patterns which include, but are not limited to, breeding, feeding, or sheltering” (50 CFR 17.3). The term “harm” is defined in the regulations as “an act which actually kills or injures wildlife. Such act may include significant habitat modification or degradation where it actually kills or injures wildlife by significantly impairing essential behavioral patterns, including breeding, feeding, and sheltering” (50 CFR 17.3).

Under limited circumstances, we issue permits to authorize incidental take—i.e., take that is incidental to, and not the purpose of, the carrying out of an otherwise lawful activity. Regulations governing incidental take permits for threatened and endangered species are at 50 CFR 17.32 and 17.22, respectively. In addition to meeting other criteria, an incidental take permit must not jeopardize the continued existence of federally listed threatened or endangered species.

NEPA (42 U.S.C. 4321 et seq.) requires that Federal agencies conduct an environmental analysis of their proposed actions to determine if the actions may significantly affect the human environment. Under NEPA, a reasonable range of alternatives to a proposed project is developed and considered in the Service's environmental review. Alternatives considered for analysis in an EIS for an HCP may include: variations in the scope of covered activities; variations in the location, amount, and type of conservation; variations in permit duration; or a combination of these elements.

Introduction

South Puget Sound prairies and oak woodlands are among the rarest habitats in Washington. Today, only about 10 percent of the spatial extent of the original South Puget Sound Prairies remains. Less than 3 percent of that is considered high-quality prairie habitat. The decline in the quantity and quality of prairie habitat in western Washington has resulted in imperiled populations of many prairie-dependent species. Land development and other incompatible uses are the primary threats to prairies and their associated species.

Thurston County is located at the southern end of Puget Sound and has a total population of approximately 257,000 people. As one of the fastest growing regions in the State of Washington, Thurston County's population grew by approximately 50,000 (24 percent) between the year 2000 and the year 2012, and is expected to grow by over 138,000 by the year 2040. A sizable portion of South Puget Sound Prairie habitat is located in the urban-rural interface and in the less densely populated southern portion of the county. Based on current zoning and land use regulations, future development in the county is likely to occur on lands with prairie soils and habitat suitable for rare prairie species protection or restoration.

Washington State's Growth Management Act requires counties to protect several types of “critical areas,” including important fish and wildlife habitats such as prairies and oak woodlands. Thurston County recently updated and approved its Critical Areas Ordinance for the protection of South Puget Sound prairies and oak woodlands. If the South Puget Sound Prairie HCP is approved, this ordinance will be an important basis for implementing the HCP.

The Prairie HCP goals are to avoid and minimize incidental take of the covered species associated with Thurston County's activities in the county and urban growth areas, and to mitigate the effects of unavoidable take, primarily by creating conserved habitat areas in Thurston County where intact prairie habitat exists. The Prairie HCP would provide a county-wide permitting approach for Thurston County and those who require permits from Thurston County to develop lands in the county and urban growth areas. The proposed term for the Prairie HCP and permit is from 30 to 50 years.

Covered Activities

Thurston County is seeking incidental take coverage for activities that it conducts, permits, or otherwise authorizes. The proposed covered activities may include, but are not limited to: planning and permitting of residential and agricultural structures and facilities on existing legal lots; permits for private and new subdivision road construction and maintenance; permits for work in right-of-ways; construction and maintenance of county roads, bridges, and right-of-ways; construction and maintenance of county-owned buildings and other administrative facilities; construction and maintenance of county parks and historical cemeteries including roads, trails, vegetation management, structures, recreational activities, scientific research; construction and operation of solid waste facilities; permitting and monitoring of wells, septic systems, and decommissioning of home oil tanks; maintenance and monitoring of water resources and associated facilities; construction, installation, extension, and maintenance of surface-water intake facilities, pumping plants, well houses, water treatment facilities, and water supply pipelines; emergency response, cleanup, and restoration associated with natural disasters; habitat restoration activities on county-owned or controlled land, the Voluntary Stewardship Program for agricultural activities in habitat areas, and all habitat enhancement activities associated with implementation of the HCP.

Covered Species

Thurston County is proposing to seek incidental take coverage for two federally listed species, three species proposed to be federally listed, one candidate species, and 12 non-listed species. These species are described in more detail in the following paragraphs.

Golden paintbrush (Castilleja levisecta) is a native forb that was once found on northwest prairie grasslands from British Columbia to the Willamette Valley of Oregon. Golden paintbrush was federally listed as threatened under the Endangered Species Act on June 11, 1997 (62 FR 31740). This flowering plant is known to exist in only 11 locations, including one population found on a South Puget Sound Prairie in Thurston County.

Water howellia (Howellia aquatilis) is a winter annual aquatic plant that grows in areas that were once associated with glacial potholes and former river oxbows that flood in the spring. Water howellia (Howellia aquatilis) was federally listed as threatened on July 14, 1993 (59 FR 35860). This flowering plant is currently known from California, Idaho, Montana, and Washington, and was historically found in Oregon.

Taylor's checkerspot (Euphydryas editha taylori) is a native butterfly that was once widespread throughout prairies in association with golden paintbrush. Taylor's checkerspot was proposed to be federally listed as an endangered species and designation of critical habitat was proposed on October 11, 2012 (77 FR 61937). This species is already classified as endangered by the State of Washington. In south Puget Sound, this species is found at only two locations: one where the butterfly naturally occurs, and the other where it has been reintroduced. Both locations lie within the south Puget Sound prairie landscape. Reintroductions of this species are being undertaken on lands already conserved.

Streaked horned lark (Eremophila alpestris strigata) is a native bird found in prairies, grasslands, and other sparsely vegetated areas. This species was proposed to be federally listed as a threatened species and designation of critical habitat was proposed on October 11, 2012 (77 FR 61937). Once distributed from British Columbia to southern Oregon, its range has retracted considerably. Within Thurston County this species is found at only few locations. The northernmost known population occurs on Joint Base Lewis-McChord.

The Mazama pocket gopher (Thomomys mazama), a native mammal of Thurston County, occurs on prairie habitat and prairie soils. In the south Puget Sound area, two of nine subpopulations of Mazama pocket gopher have become extinct since the 1940s. Four subspecies of the gopher were proposed to be federally listed as threatened and designation of critical habitat was proposed on December 11, 2012 (77 FR 77370).

The county also proposes to cover the Oregon spotted frog (Rana pretiosa), which was designated a candidate species on September 19, 1997 (62 FR 49402), and the following non-listed species: western gray squirrel (Sciurus griseus), Oregon vesper sparrow (Pooecetes graminesu), slender-billed white-breasted nuthatch (Sitta carolinensis aculeate), western pond turtle (Clemmys marmorata affinus), western toad (Bufo boreas), mardon skipper (Polites mardon), Puget blue butterfly (Icaricia icarioides blackmorei), valley silverspot butterfly (Speyeria zerene), white-top aster (Aster curtus), rose checker mallow (Sidalcea malviflora virgata), small-flowered trillium (Trillium parviflorum), and Puget balsamroot (Balsamorhiza deltoidea).

Public Scoping

The primary purpose of the scoping process is for the public to assist the Service and Thurston County in developing a draft EIS by identifying important issues and alternatives related to the applicant's proposed action. The scoping meeting will include presentations by the Service and Thurston County, followed by informal questions and discussions. Written comments from all interested parties are welcome to ensure that a full range of issues and alternatives related to the proposed permit request is identified.

The Service requests that comments be specific. In particular, we request information regarding management issues and goals to be considered in the development of the HCP; existing environmental conditions in Thurston County; other plans or projects that might be relevant to this proposed project; permit duration; areas and specific landforms that should or should not be covered; species that should or should not be covered; covered activities, including potential avoidance, minimization, and mitigation measures; monitoring and adaptive management provisions; and funding suggestions.

We will accept written comments at the public meeting. You may also submit written comments to the Service at our U.S. mail address, by email, or by facsimile (see ADDRESSES section above). Once the draft EIS and draft HCP are prepared, there will be further opportunity for public comment on the content of these documents through an additional 90-day public comment period.

Public Availability of Comments

Comments and materials we receive, as well as supporting documentation we use in preparing the EIS under NEPA, will become part of the public record and will be available for public inspection by appointment, during regular business hours, at the Service's Washington Fish and Wildlife Office (see ADDRESSESS). Before including your address, phone number, email address, or other personal identifying information in your comment(s), you should be aware that your entire comment(s)—including your personal identifying information—may be made publicly available at any time. While you can ask us in your comment(s) to withhold your personal identifying information from public review, we cannot guarantee that we will be able to do so.

Authority

The environmental review of this project will be conducted in accordance with the requirements of the NEPA of 1969, as amended (42 U.S.C. 4321 et seq.), Council on Environmental Quality Regulations (40 CFR parts 1500-1508), other applicable Federal laws and regulations, and applicable policies and procedures of the Service. This notice is being furnished in accordance with 40 CFR 1501.7 of the NEPA regulations to obtain suggestions and information from other agencies and the public on the scope of issues and alternatives to be addressed in the EIS.

Dated: March 5, 2013.
Richard R. Hannan,
Deputy Regional Director, Pacific Region, U.S. Fish and Wildlife Service, Portland, Oregon.

[FR Doc. 2013-06374 Filed 3-19-13; 8:45 am]

BILLING CODE 4310-55-P